DEPARTMENT OF TRANSPORTATION

Federal Aviation Administration

14 CFR Part 73

[Docket No. FAA-2018-1080; Airspace Docket No. 18-AGL-26]

RIN 2120-AA66

Amendment of Restricted Areas R-5502A and R-5502B; Lacarne, OH

AGENCY: Federal Aviation Administration (FAA), DOT.

ACTION: Final rule; technical amendment.

SUMMARY: This action updates the using agency information for restricted areas R-5502A and R-5502B; Lacarne, OH, and updates the controlling agency information for R-5502A. Additionally, this action adds exclusion language to the R-5502B boundaries information to overcome potential controlling agency confusion caused when both restricted areas are active in the same volume of airspace. These are administrative changes to reflect the current organizations tasked with using agency and controlling agency responsibilities for the restricted areas. It does not affect the overall R-5502 restricted area complex boundaries, designated altitudes, time of designation, or activities conducted within the restricted areas.

DATES: Effective date: 0901 UTC, April 24, 2019.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the using agency and controlling agency for restricted areas R-5502A and R-5502B to reflect the current responsible organizations, and adds exclusion language to the R-5502B boundaries information to overcome potential controlling agency confusion caused when both restricted areas are active at the same time.

The Rule

This rule amends Title 14 Code of Federal Regulations (14 CFR) part 73 by updating the using agency name for restricted areas R-5502A and R-5502B, updating the controlling agency name for restricted area R-5502A, and updating the boundaries information for R-5502B by adding exclusion language. The using agency for R-5502A and R-5502B is changed from “The Adjutant General, state of Ohio,” to “U.S. Army, Camp Perry Joint Training Center, OH.” The controlling agency for R-5502A is changed from “FAA, Cleveland ARTCC,” to “FAA, Toledo Approach Control.” The boundaries information for R-5502B is changed to include the language “excluding R-5502A” at the end. This action is necessary in order to reflect the current organizations tasked with using agency and controlling agency responsibilities for the restricted areas.

This is an administrative change that does not affect the overall R-5502 restricted area complex boundaries, designated altitudes, time of designation, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of updating the using agency for restricted areas R-5502A and R-5502B; Lacarne, OH, updating the controlling agency information for R-5502A, and adding exclusion language to R-5502B qualifies for categorical exclusion under the National Environmental Policy Act, and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the description of restricted areas R-5502A and R-5502B; Lacarne, OH, to update the using agency and controlling agency names to R-5502A, update the using agency to R-5502B, and add exclusion information to R-5502B. It does not alter the overall R-5502 restricted area complex dimensions, designated altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

The Amendment

In consideration of the foregoing, the Federal Aviation Administration amends 14 CFR part 73, as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.55 Ohio [Amended]

2. § 73.55 is amended as follows:

R-5502A Lacarne, OH [Amended]

Boundaries. Beginning at lat. 41°35′19″ N, long. 82°55′30″ W; to lat. 41°32′30″ N, long. 83°01′00″ W; to lat. 41°36′35″ N, long. 83°04′52″ W; thence via a 5 NM arc centered at lat. 41°32′30″ N, long. 83°01′00″ W; to the point of beginning.

Designated altitudes. Surface to 5,000 feet MSL.

Time of designation. 0800 to 1700 local time, April 1 to November 30; 0800 to 1700 local time, Tuesday, Wednesday and Thursday, December 1 to March 31; other times by NOTAM 48 hours in advance.

Controlling agency. FAA, Toledo Approach Control.

Using agency. U.S. Army, Camp Perry Joint Training Center, OH.

R-5502B Lacarne, OH [Amended]

Boundaries. Beginning at lat. 41°41′30″ N, long. 83°00′00″ W; to lat. 41°35′40″ N, long. 82°54′50″ W; to lat. 41°32′30″ N, long. 83°01′00″ W; to lat. 41°36′35″ N, long. 83°04′52″ W; to lat. 41°41′30″ N, long. 83°07′30″ W; to the point of beginning, excluding R-5502A.

Designated altitudes. Surface to 23,000 feet MSL.

Time of designation. 0800 to 1700 local time, Tuesday, Wednesday and Thursday; other times by NOTAM 48 hours in advance.

Controlling agency. FAA, Cleveland ARTCC.

Using agency. U.S. Army, Camp Perry Joint Training Center, OH.

Issued in Washington, DC, on February 5, 2019.
Rodger A. Dean Jr.,
Manager, Airspace Policy Group.

[FR Doc. 2019-02065 Filed 2-11-19; 8:45 am]

BILLING CODE 4910-13-P